DEPARTMENT OF DEFENSE

GENERAL SERVICES ADMINISTRATION

NATIONAL AERONAUTICS AND SPACE ADMINISTRATION

[OMB Control No. 9000-0012; Docket No. 2022-0053; Sequence No. 20]

Submission for OMB Review; Termination Settlement Proposal Forms (SFs 1435-1440)

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding termination settlement proposal forms (SFs 1435-1440).

DATES: Submit comments on or before January 23, 2023.

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0012, Termination Settlement Proposal Forms (SFs 1435-1440). Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0012, Termination Settlement Proposal Forms (SFs 1435-1440).

B. Need and Uses

This clearance covers the information that contractors must submit to comply with the following Federal Acquisition Regulation requirements:

Standard Forms (SFs) 1435 through 1440. These termination settlement proposal forms are used by all Executive agencies, including DoD, for settling terminated prime contracts and subcontracts per FAR subpart 49.6, Contract Termination Forms and Formats. The forms provide a standardized format for listing essential cost and inventory information needed to support the terminated contractor's negotiated position.

The contracting officer uses the collected information to determine or support reimbursement costs upon settlement of a terminated contract.

C. Annual Burden

Respondents: 4,862.

Total Annual Responses: 38,059.

Total Burden Hours: 91,342.

D. Public Comment

A 60-day notice was published in the Federal Register at 87 FR 63072, on October 18, 2022. No comments were received.

Obtaining Copies: Requesters may obtain a copy of the information collection documents from the GSA Regulatory Secretariat Division by calling 202-501-4755 or emailing GSARegSec@gsa.gov. Please cite OMB Control No. 9000-0012, Termination Settlement Proposal Forms (SFs 1435-1440).

Janet Fry,
Director, Federal Acquisition Policy Division, Office of Governmentwide Acquisition Policy, Office of Acquisition Policy, Office of Governmentwide Policy.

[FR Doc. 2022-27998 Filed 12-22-22; 8:45 am]

BILLING CODE 6820-EP-P